FEDERAL RETIREMENT THRIFT INVESTMENT BOARD

Sunshine Act Notice

TIME AND DATE: 9 a.m. (e.s.t.)

PLACE: 4th Floor, Conference Room, 1250 H Street, NW., Washington, DC.

STATUS: Parts will be open to the public and parts closed to the public.

MATTERS TO BE CONSIDERED:

Parts Open to the Public

9 a.m. (EST) Convene Meeting.

1. Approval of the minutes of the October 20, 2003, Board member meeting.

2. Thrift Savings Plan activity report by the Executive Director.

3. Semiannual review of status of audit recommendations.

4. Presentation by the Department of Labor and KPMG LLP.

5. Investment policy review.

6. Annual ethics briefing.

Parts Closed to the Public

7. Personnel matters.

CONTACT PERSON FOR MORE INFORMATION: Thomas J. Trabucco, Director, Office of External Affairs, (202) 942-1640.

Dated: November 5, 2003.
Elizabeth S. Woodruff,
Secretary to the Board, Federal Retirement Thrift Investment Board.

[FR Doc. 03-28240 Filed 11-5-03; 2:58 pm]

BILLING CODE 6760-01-M